DEPARTMENT OF COMMERCE

International Trade Administration

[C-570-942]

Certain Kitchen Appliance Shelving and Racks From the People's Republic of China: Final Results of Countervailing Duty Administrative Review; 2010

AGENCY: Import Administration, International Trade Administration, Department of Commerce.

SUMMARY: The Department of Commerce (“Department”) has completed its administrative review of the countervailing duty (“CVD”) order on certain kitchen appliance shelving and racks from the People's Republic of China (“PRC”) for the period January 1, 2010, through December 31, 2010. The final net subsidy rate for New King Shan (Zhu Hai) Co., Ltd. (“NKS”) is listed below in the section entitled “Final Results of the Review.”

DATES: Effective Date: April 11, 2013.

FOR FURTHER INFORMATION CONTACT: Jennifer Meek or Mary Kolberg, Office of AD/CVD Operations, Office 1, Import Administration, International Trade Administration, U.S. Department of Commerce, 14th Street and Constitution Avenue NW., Washington, DC 20230; telephone: (202) 482-2778 and (202) 482-1785, respectively.

SUPPLEMENTARY INFORMATION:

Background

Following the Preliminary Results,¹ the Department sent two supplemental questionnaires to NKS regarding certain subsidy programs. NKS submitted its timely responses on October 23, 2012, and November 28, 2012. NKS submitted a case brief on December 10, 2012. SSW Holding Company, Inc. and Nashville Wire Products, Inc. (collectively “Petitioners”), submitted a rebuttal brief on December 17, 2012.

¹ See Certain Kitchen Appliance Shelving and Racks From the People's Republic of China: Countervailing Duty Administrative Review; 2010, 77 FR 61396 (October 9, 2012) (“Preliminary Results”), as corrected by Certain Kitchen Appliance Shelving and Racks from the People's Republic of China: Countervailing Duty Administrative Review, 2010; Correction, 77 FR 72324 (December 5, 2012).

On February 4, 2013, we placed on the record of this review pricing information for wire rod, hot-rolled steel coil, and cold- rolled steel coil.² NKS commented on these prices on February 19, 2013. On March 8, 2013, we placed on the record of this review the “Regulations of the People's Republic of China on Import and Export Duties,” which we obtained from the Web site of the Ministry of Commerce of the People's Republic of China.³ No party commented on this information.

² See Memorandum to the File from Jennifer Meek regarding, “Countervailing Duty Administrative Review: Certain Kitchen Appliance Shelving and Oven Racks from the People's Republic of China: Benchmark Information Currently On the Record,” (February 4, 2013).

³ See Memorandum to the File from Jennifer Meek regarding, “Countervailing Duty Administrative Review: Certain Kitchen Appliance Shelving and Oven Racks from the People's Republic of China: Chinese Customs Regulations for Imports,” (March 8, 2013).

Scope of the Order

The merchandise subject to the order is shelving and racks for refrigerators, freezers, combined refrigerator-freezers, other refrigerating or freezing equipment, cooking stoves, ranges, and ovens. These products are currently classified under the Harmonized Tariff Schedule of the United States (“HTSUS”) item numbers 8418.99.80.50, 7321.90.50.00, 7321.90.60.40, 7321.90.60.90, 8418.99.80.60, 8419.90.95.20, 8516.90.80.00, and 8516.90.80.10. The HTSUS subheadings are provided for convenience and customs purposes. A full description of the scope is contained in the Memorandum from Gary Taverman, Senior Advisor for Antidumping and Countervailing Duty Operations, to Ronald K. Lorentzen, Acting Assistant Secretary for Import Administration, entitled “Issues and Decision Memorandum for the Final Results of the Countervailing Duty Administrative Review: Certain Kitchen Appliance Shelving and Racks from the People's Republic of China,” dated concurrently with this notice (“Issues and Decision Memorandum”), which is hereby adopted by this notice.

Analysis of Comments Received

All issues raised in the parties' briefs are addressed in the Issues and Decision Memorandum. A list of the issues raised is attached to this notice as Appendix I. The Issues and Decision Memorandum is a public document and is on file electronically via Import Administration's Antidumping and Countervailing Duty Centralized Electronic Service System (“IA ACCESS”). IA ACCESS is available to registered users at http://iaaccess.trade.gov and in the Central Records Unit, room 7046 of the main Department of Commerce building. In addition, a complete version of the Issues and Decision Memorandum can be accessed directly on the internet at http://www.trade.gov/ia/. The signed Issues and Decision Memorandum and the electronic versions of the Issues and Decision Memorandum are identical in content.

Use of Facts Otherwise Available and Adverse Inferences

For purposes of these final results, we have continued to rely on facts available and apply adverse inferences in accordance with sections 776(a) and (b), respectively, of the Tariff Act of 1930, as amended (“Act”), with regard to: (1) Whether suppliers of steel strip and wire rod are authorities under the Wire Rod and Steel Strip at Less than Adequate Remuneration programs; and (2) the specificity of various grants listed in NKS' financial statements. A full discussion of our decision to apply adverse facts available is presented in the Issues and Decision Memorandum under the section “Use of Facts Otherwise Available and Adverse Inferences.”

Final Results of the Review

In accordance with 19 CFR 351.221(b)(5), we calculated the subsidy rate shown below for the mandatory respondent, NKS.

“
Producer/exporter | Net subsidy rate (percent)
New King Shan (Zhu Hai) Co., Ltd | 12.06

Assessment Rates

The Department intends to issue appropriate assessment instructions directly to U.S. Customs and Border Protection (“CBP”) 15 days after publication of these final results of review, to liquidate shipments of subject merchandise by NKS entered, or withdrawn from warehouse, for consumption on or after January 1, 2010, through December 31, 2010.

Cash Deposit Instructions

The Department also intends to instruct CBP to collect cash deposits of estimated countervailing duties in the amount shown above on shipments of subject merchandise by NKS entered, or withdrawn from warehouse, for consumption on or after the date of publication of the final results of this review. For all non-reviewed companies, we will instruct CBP to continue to collect cash deposits at the most recent company-specific or country-wide rate applicable to the company. Accordingly, the cash deposit rates that will be applied to companies covered by this order, but not examined in this review, are those established in the most recently completed segment of the proceeding for each company. These cash deposit requirements, when imposed, shall remain in effect until further notice.

Administrative Protective Order

This notice serves as a reminder to parties subject to administrative protective order (“APO”) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act.

Dated: April 5, 2013.
Ronald K. Lorentzen,
Acting Assistant Secretary for Import Administration.

Appendix I

List of Comments in the Issues and Decision Memorandum:

Comment 1: Application of CVD Law to the PRC

Comment 2: Benchmark Calculation for the Wire Rod for Less Than Adequate Remuneration (“LTAR”) Program

Comment 3: Inclusion of Ocean Freight in the Benchmark Calculations

Comment 4: NKS' February 19, 2013 Comments Regarding the Department's Placement of Information on the Record

[FR Doc. 2013-08514 Filed 4-10-13; 8:45 am]

BILLING CODE 3510-DS-P